DEPARTMENT OF TRANSPORTATION

Surface Transportation Board

[STB Finance Docket No. 34778]

BNSF Railway Company—Temporary Trackage Rights Exemption—Union Pacific Railroad Company

Union Pacific Railroad Company (UP), has agreed to grant limited temporary overhead trackage rights to BNSF Railway Company (BNSF) for eastbound trains on: (1) UP's Dallas Subdivision from Tower 55 at Fort Worth, TX (milepost 245.3), to Longview, TX (milepost 89.6); (2) UP's Little Rock Subdivision from Longview (milepost 89.6), to North Little Rock, AR (milepost 343.6); (3) UP's Hoxie Subdivision from North Little Rock, AR (milepost 343.6), to Bald Knob, AR (milepost 287.9); and (4) UP's Memphis Subdivision between Bald Knob (milepost 287.9) to Kentucky Street, Memphis, TN (milepost 378.1), a distance of approximately 542.2 miles. UP has also agreed to grant limited temporary overhead trackage rights to BNSF for westbound trains on: (1) UP's Memphis Subdivision from Kentucky Street to Briark, AR (milepost 375.3); (2) UP's Brinkley Sub (milepost 4.1) to Brinkley, AR (milepost 70.6); (3) UP's Jonesboro Subdivision (milepost 200.5) to Pine Bluff, AR (milepost 264.2); (4) UP's Pine Bluff Subdivision (milepost 264.2) to Big Sandy, TX (milepost 525.1); and (5) UP's Dallas Subdivision (milepost 114.5) to Tower 55, TX (milepost 245.3), a distance of approximately 526.3 miles.

The transaction was scheduled to be consummated on November 10, 2005, and the temporary trackage rights will expire on December 23, 2005. The purpose of the temporary trackage rights is to allow BNSF to bridge its trains while its main lines are out of service due to programmed track, roadbed, and structural maintenance.

As a condition to this exemption, any employee affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employee affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34778, must be filed with the Surface Transportation Board, 1925 K Street, NW., Washington, DC 20423-0001. In addition, a copy of each pleading must be served on Michael E. Roper, Senior General Attorney, BNSF Railway Company, P.O. Box 961039, Fort Worth, TX 76161-0039.

Board decisions and notices are available on our Web site at http://www.stb.dot.gov.

Decided: November 15, 2005.
By the Board, David M. Konschnik, Director, Office of Proceedings.
Vernon A. Williams,
Secretary.

[FR Doc. 05-22989 Filed 11-21-05; 8:45 am]

BILLING CODE 4915-01-P